INTERNATIONAL TRADE COMMISSION

[Investigation 332-413]

The Economic Impact of U.S. Sanctions With Respect to Cuba

AGENCY: United States International Trade Commission.

ACTION: Additional day for public hearing.

EFFECTIVE DATE: September 11, 2000.

SUMMARY: The public hearing on this matter is scheduled for September 19, 2000. A second day, September 20, 2000, has been added for this public hearing. The public hearing will be held at the U.S. International Trade Commission building, 500 E Street SW Washington, DC, beginning at 9:30 a.m. on both September 19, and September 20, 2000. Notice of institution of this investigation was published in the Federal Register of April 24, 2000 (65 FR 21788).

FOR FURTHER INFORMATION CONTACT: Information may be obtained from Mr. James Stamps (202-205-3227), Office of Economics, or Mr. Jonathan Coleman (202-205-3465), Office of Industries, U.S. International Trade Commission, Washington, DC, 20436. For information on the legal aspects of this investigation, contact William Gearhart of the Office of the General Counsel (202-205-3091). Hearing impaired individuals are advised that information on this matter can be obtained by contacting the TDD terminal on (202) 205-1810.

Persons with mobility impairments who will need special assistance in gaining access to the Commission should contact the Office of the Secretary at 202-205-2000. General information concerning the Commission may also be obtained by accessing its Internet server (http://www.usitc.gov).

List of Subjects

Cuba, sanctions, exports, imports.

By order of the Commission.
Issued: September 11, 2000.
Donna R. Koehnke,
Secretary.

[FR Doc. 00-23733 Filed 9-14-00; 8:45 am]

BILLING CODE 7020-02-P